DEPARTMENT OF LABOR

Employment and Training Administration

[TA-W-74.467]

Zach System Corporation a Subdivision of Zambon Company, SPA Including On-Site Leased Workers of Turner Industries and Go Johnson, La Porte, TX; Amended Certification Regarding Eligibility To Apply for Worker Adjustment Assistance

In accordance with Section 223 of the Trade Act of 1974, as amended (“Act”), 19 U.S.C. 2273, the Department of Labor issued a Certification of Eligibility to Apply for Worker Adjustment Assistance on October 1, 2010, applicable to workers of Zach System Corporation, a subdivision of Zach System SPA, La Porte, Texas, including on-site leased workers from Turner Industries and Go Johnson, La Porte, Texas. The Department's notice of determination was published in the Federal Register on October 15, 2010 (75 FR 63511).

At the request of the State Agency, the Department reviewed the certification for workers of the subject firm. The workers were engaged in the manufacture of pharmaceutical catalysts and active ingredients.

The investigation revealed that Zach System Corporation is a subdivision of Zambon Company, SPA, not Zach System SPA.

Based on these findings, the Department is amending this certification to correct the parent company name of the subject firm to read Zambon Company, SPA.

The amended notice applicable to TA-W-74,467 is hereby issued as follows:

All workers of Zach System Corporation, a subdivision of Zambon Company, SPA, including on-site leased workers of Turner Industries and Go Johnson, La Porte, Texas, who became totally or partially separated from employment on or after August 3, 2009, through October 1, 2012, and all workers in the group threatened with total or partial separation from employment on the date of certification through two years from the date of certification, are eligible to apply for adjustment assistance under Chapter 2 of Title II of the Trade Act of 1974, as amended.

Signed in Washington, DC, this 23rd day of November 2010.
Elliott S. Kushner,
Certifying Officer, Office of Trade Adjustment Assistance.

[FR Doc. 2010-30537 Filed 12-6-10; 8:45 am]

BILLING CODE 4510-FN-P